DEPARTMENT OF DEFENSE

GENERAL SERVICES ADMINISTRATION

NATIONAL AERONAUTICS AND SPACE ADMINISTRATION

48 CFR Part 7

[FAC 2023-03; Item III; Docket No. FAR-2023-0052; Sequence No. 2]

Federal Acquisition Regulation; Technical Amendments

AGENCY: Department of Defense (DoD), General Services Administration (GSA), and National Aeronautics and Space Administration (NASA).

ACTION: Final rule.

SUMMARY: This document makes an amendment to the Federal Acquisition Regulation (FAR) in order to make needed editorial changes.

DATES: Effective: May 26, 2023.

FOR FURTHER INFORMATION CONTACT: Ms. Lois Mandell, Regulatory Secretariat Division (MVCB), at 202-501-4755 or GSARegSec@gsa.gov. Please cite FAC 2023-03, Technical Amendments.

SUPPLEMENTARY INFORMATION: This document makes an editorial change to 48 CFR part 7.

List of Subjects in 48 CFR Part 7

Government procurement.

William F. Clark,
Director, Office of Government-wide Acquisition Policy, Office of Acquisition Policy, Office of Government-wide Policy.

Therefore, DoD, GSA, and NASA amend 48 CFR part 7 as set forth below:

PART 7—ACQUISITION PLANNING

1. The authority citation for 48 CFR part 7 continues to read as follows:

Authority: 40 U.S.C. 121(c); 10 U.S.C. chapter 4 and 10 U.S.C. chapter 137 legacy provisions (see 10 U.S.C. 3016); and 51 U.S.C. 20113.

7.403 [Amended]

2. Amend section 7.403 by removing from paragraph (c)(1) “(https://www.whitehouse.gov/sites/whitehouse.gov/files/omb/circulars/A94/a094.pdf)” and adding “(https://www.whitehouse.gov/wp-content/uploads/legacy_drupal_files/omb/circulars/A94/a094.pdf)” in its place.

[FR Doc. 2023-08199 Filed 4-25-23; 8:45 am]

BILLING CODE 6820-EP-P